DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO), Department of Commerce.

Title: Patent Prosecution Highway (PPH) Pilot Program.

Form Number(s): PTO/SB/10, PTO/SB/20.

Agency Approval Number: 0651-0058.

Type of Request: Revision of a currently approved collection.

Burden: 1,575 hours annually.

Number of Respondents: 800 responses per year.

Avg. Hours Per Response: The USPTO estimates that it will take the public approximately 1.5 hours to gather the necessary information, prepare the form, and submit the completed Request for Participation in the New Route Pilot Program.

Needs and Uses: A work-sharing pilot program called the “New Route” is being established between the United States Patent and Trademark Office (USPTO) and the Japan Patent Office (JPO). Under the New Route, a filing in one member office of this arrangement would be deemed a filing in all member offices. The first office and applicant would be given a 30-month processing time frame in which to make available a first office action and any necessary translations to the second office(s), and the second office(s) would exploit the search and examination results of the first office in conducting their own examination. The information collection includes one proposed form, Request for Participation in the New Route Pilot Program Between the JPO and the USPTO (PTO/SB/10), which may be used by applicants to request participation in the pilot program and to ensure that they meet the program requirements. This form will be added to this collection.

Affected Public: Individuals or households; businesses or other for-profits; and not-for-profit institutions.

Frequency: On occasion.

Respondent's Obligation: Required to obtain or retain benefits.

OMB Desk Officer: David Rostker, (202) 395-3897.

Copies of the above information collection proposal can be obtained by any of the following methods:

E-mail: Susan.Fawcett@uspto.gov. Include “0651-0058 copy request” in the subject line of the message.

Fax: 571-273-0112, marked to the attention of Susan Fawcett.

Mail: Susan K. Fawcett, Records Officer, Office of the Chief Information Officer, Customer Information Services Group, Public Information Services Division, United States Patent and Trademark Office, P.O. Box 1450, Alexandria, VA 22313-1450.

Written comments and recommendations for the proposed information collection should be sent on or before March 13, 2008 to David Rostker, OMB Desk Officer, Room 10202, New Executive Office Building, 725 17th Street, NW., Washington, DC 20503.

Dated: February 5, 2008.
Susan K. Fawcett,
Records Officer, USPTO, Office of the Chief Information Officer, Customer Information Services Group, Public Information Services Division.

[FR Doc. E8-2550 Filed 2-11-08; 8:45 am]

BILLING CODE 3510-16-P